DEPARTMENT OF EDUCATION

Notice of Final Priority, Definitions, Requirements, and Selection Criteria

AGENCY: Office of Safe and Drug-Free Schools, Department of Education.

ACTION: Notice of final priority, definitions, requirements, and selection criteria.

SUMMARY: The Assistant Deputy Secretary for Safe and Drug-Free Schools announces a priority, definitions, requirements, and selection criteria under the Models of Exemplary, Effective, and Promising Alcohol or Other Drug Abuse Prevention Programs on College Campuses grant competition. The Assistant Deputy Secretary may use the priority, definitions, requirements, and selection criteria for competitions in fiscal year (FY) 2008 and later years.

DATES: Effective Date: The priority, definitions, requirements, and selection criteria are effective May 1, 2008.

FOR FURTHER INFORMATION CONTACT: Richard Lucey, Jr., U.S. Department of Education, 400 Maryland Avenue, SW., room 3E335, Washington, DC 20202-6450. Telephone: (202) 205-5471, or by e-mail: richard.lucey@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: We published a notice of proposed priority, definitions, requirements, and selection criteria for this competition in the Federal Register on December 26, 2007 (72 FR 73012). Except for minor editorial revisions in the priority, there are no differences between the notice of proposed priority, definitions, requirements, and selection criteria and this notice of final priority, definitions, requirements, and selection criteria.

Analysis of Comments and Changes

In response to our invitation in the notice of proposed priority, definitions, requirements, and selection criteria, one party submitted a comment on the proposed eligibility requirements. An analysis of the comment and of any changes in the priority, definitions, requirements, and selection criteria since publication of the notice of proposed priority, definitions, requirements, and selection criteria follows.

Generally, we do not address technical and other minor changes—and suggested changes the law does not authorize us to make under the applicable statutory authority.

Eligible Applicants

Comment: One commenter recommended that eligible applicants include the national headquarters or educational foundations of campus-based fraternities and sororities.

Discussion: We have designed this program for institutions of higher education (IHEs) because the emphasis of this grant program is not only to recognize an IHE for having implemented an exemplary, effective, or promising program on its campus, but also to assist the IHE in strengthening the program through enhancement and further evaluation. This emphasis encourages and fosters key aspects of effective campus-based prevention, including conducting a problem analysis or needs assessment, setting goals and objectives that are relevant to the campus's identified alcohol or other drug abuse problems, implementing and evaluating appropriate prevention and early intervention strategies, and identifying and securing the involvement of a cross-representation of campus- and community-based partners.

If we extended eligibility for this grant program to non-IHEs, we would run the risk of recognizing entities that are developing programs for a specific student population, such as first-year students, members of fraternities and/or sororities, and student-athletes, in an insular manner without any collaboration or input with the at-large campus community. Such an approach would run counter to current prevention research that demonstrates coalition-building and collaboration with a broad representation of constituents as a vital and effective component of a campus's alcohol or other drug abuse prevention efforts. Research strongly supports the use of comprehensive, integrated programs with multiple complementary components that target individuals, including at-risk or alcohol-dependent drinkers; the student population as a whole; and the college and surrounding community.

Although we do not propose that non-IHEs be eligible for funding under this grant program, we recognize that non-IHEs can play an important role in collaborating with an IHE as part of the campus's comprehensive alcohol or other drug abuse prevention efforts and we strongly encourage such a relationship. For instance, an IHE may submit an application for recognition as an exemplary, effective, or promising program that has evidence of effectiveness in preventing alcohol or other drug abuse among members of the campus's fraternity and/or sorority members, and is supported by the national headquarters or educational foundations of campus-based fraternities and sororities.

Changes: None.

Note: This notice does not solicit applications. In any year in which we choose to use the priority, definitions, requirements, and selection criteria, we invite applications through a notice in the Federal Register. When inviting applications we designate the priority as absolute, competitive preference, or invitational. The effect of each type of priority follows:

Absolute Priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority: Exemplary, Effective, and Promising Alcohol or Other Drug Abuse Prevention Programs on College Campuses

Under this priority the Department provides funding to IHEs that have implemented an exemplary, effective, or promising alcohol or other drug abuse prevention program on their campus. To meet the priority, in its application, an applicant must:

1. Describe the program that has for at least two full years been implemented on its campus, including the structure and content of the program, the student population that is targeted by the program, and any unique features of the program;

2. Provide a detailed theoretical basis for the program's effectiveness;

3. Provide data to demonstrate the program's impact on the target student population, including evidence of cognitive or behavioral changes, or both, among the target population; and

4. Consent to a site visit to clarify information in the application and verify evaluation data.

Under this program, the Department selects an IHE for recognition as having an exemplary, effective, or promising program based on the recommendation from the two peer reviewers who conduct the site visit. Therefore, note that selection for a site visit does not ensure recognition as an exemplary, effective, or promising program by the Department.

Recognition Types

Contingent upon the quality of data provided by the applicant and the recommendation of site visitors, an applicant may earn one of three levels of recognition.

Level 1 is recognition as an exemplary program. An IHE whose program is designated as exemplary must:

1. Within 30 days of receiving an award, provide to the Department a plan to disseminate information about its program to other IHEs;

2. Upon approval by the Department, implement its dissemination plan; and

3. Enhance and further evaluate the exemplary program during the project period of the grant award.

Level 2 is recognition as an effective program. An IHE whose program is designated as effective must:

1. Within 30 days of receiving an award, provide to the Department a plan to disseminate information about its program to other IHEs;

2. Upon approval by the Department, implement its dissemination plan; and

3. Enhance and further evaluate the effective program during the project period of the grant award.

Level 3 is designation as a promising program. An IHE whose program is recognized as promising must:

1. Within 30 days of receiving an award, submit to the Department a plan to enhance and further evaluate its program;

2. Upon approval by the Department, implement its enhancement and evaluation plan; and

3. Within 12 months of award, provide to the Department a report detailing the results of its evaluation.

Definitions

1. Exemplary program means a program that has a strong theoretical base and demonstrated effectiveness in reducing alcohol or other drug abuse among college students or reducing problems resulting from alcohol or other drug use among college students, using a research design of the highest quality. For the purpose of this grant competition, a research design of the highest quality means an experimental design in which students are randomly assigned to participate in a project being evaluated (treatment group) or not participate in the project (control group). The effect of the project is the difference in outcomes between the treatment and control groups.

If strong, experimentally determined evidence of the effectiveness of a program already exists, and the program was implemented on the applicant's campus with fidelity to the research, then a quasi-experimental evaluation of the program's implementation on the applicant's campus may be an acceptable research design. For the purpose of this grant competition, quasi-experimental designs include several designs that attempt to approximate a random assignment design.

2. Effective program means a program that has a strong theoretical base and has been evaluated using either an experimental or quasi-experimental research design, with the evaluation results suggesting effectiveness in reducing alcohol or other drug abuse among college students, reducing problems resulting from alcohol or other drug use among college students, reducing risk factors, enhancing protective factors, or resulting in some combination of those impacts.

3. Promising program means a program that has a strong theoretical base and for which evidence has been obtained, using limited research methods, that the program may reduce alcohol or other drug abuse among college students, reduce problems resulting from alcohol or other drug use among college students, reduce risk factors, enhance protective factors, or result in some combination of those impacts. For the purpose of this grant competition, limited research methods are methods that include a pre- and post-treatment measurement of the effects of a treatment on a single subject or group of single subjects.

Requirements

Eligible Applicants

Only IHEs that offer an associate or baccalaureate degree are eligible under this program.

Limitations on Eligibility

(a) Exemplary or effective programs. The length of time an IHE is ineligible for a subsequent award after receiving recognition for an exemplary or effective program is three years.

(b) Promising programs. Programs recognized as promising may be eligible for a new award when their current grant is no longer active. A grant is considered active until the end of the grant's project or funding period, including any extensions of those periods that extend the grantee's authority to obligate funds. A project that fails to achieve exemplary or effective status after a second designation as a promising program may not reapply for three years after its second project period is no longer active.

Funding Limits for Applicants

The maximum amount an applicant may receive for a project recognized as an exemplary or effective program may be no more than $150,000 plus indirect costs, and a project recognized as a promising program may receive no more than $100,000 plus indirect costs.

Selection Criteria

1. Significance

(a) The potential contribution of the program to the development and advancement of theory, knowledge, and practices in the field of study.

(b) The quality of the applicant's plan to disseminate the program in ways that will enable others to use the information or strategies, including evidence of the program's readiness for replication.

2. Project Design

(a) The extent to which the design of the program reflects up-to-date knowledge from research and effective practices.

(b) The extent to which the plan to enhance the program reflects up-to-date knowledge from research and effective practices.

(c) The extent to which the goals, objectives, and outcomes to be achieved by the enhancement to the program are clearly specified and measurable.

3. Project Evaluation

(a) The extent to which the evaluation data provide evidence of the effectiveness of the program in reducing alcohol or other drug use, or both, reducing problems resulting from alcohol or other drug use, or both, reducing risk factors, enhancing protective factors, or some combination of those impacts.

(b) The extent to which the methods of evaluation used during the implementation of the program will provide guidance about effective strategies suitable for replication or testing in other settings.

(c) The extent to which the methods of evaluation used during the enhancement of the program will provide performance feedback and permit periodic assessment of progress toward achieving intended outcomes.

Executive Order 12866

This notice of final priority, definitions, requirements, and selection criteria has been reviewed in accordance with Executive Order 12866. Under the terms of the order, we have assessed the potential costs and benefits of this regulatory action.

The potential costs associated with the notice of final priority, definitions, requirements, and selection criteria are those resulting from statutory requirements and those we have determined as necessary for administering this program effectively and efficiently.

In assessing the potential costs and benefits—both quantitative and qualitative—of this notice of final priority, definitions, requirements, and selection criteria, we have determined that the benefits of the final priority, definitions, requirements, and selection criteria justify the costs.

We have also determined that this regulatory action does not unduly interfere with State, local, and tribal governments in the exercise of their governmental functions.

We summarized the costs and benefits in the notice of proposed priority, definitions, requirements, and selection criteria.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

You may also view this document in text at the following site: http://www.ed.gov/programs/dvpcollege/applicant.html.

Note: The official version of this document is the document published in the Federal Register. Free Internet access to the official edition of the Federal Register and the Code of Federal Regulations is available on GPO Access at: http://www.gpoaccess.gov/nara/index.html.

(Catalog of Federal Domestic Assistance Number: 84.184N Office of Safe and Drug-Free Schools—Models of Exemplary, Effective, and Promising Alcohol and Other Drug Abuse Prevention Programs on College Campuses)

Program Authority: 20 U.S.C. 7131.

Dated: March 26, 2008.
Deborah A. Price,
Assistant Deputy Secretary for Safe and Drug-Free Schools.

[FR Doc. E8-6678 Filed 3-31-08; 8:45 am]

BILLING CODE 4000-01-P